FEDERAL COMMUNICATIONS COMMISSION

47 CFR Part 73

[DA 03-2761, MB Docket No. 03-118, RM-10585]

Digital Television Broadcast Service; Butte, MT

AGENCY: Federal Communications Commission.

ACTION: Final rule.

SUMMARY: The Commission, at the request of KXLF Communications, Inc., substitutes DTV channel 5 for DTV channel 15 at Butte, Montana. See 68 FR 27767, May 21, 2003. DTV channel 5 can be allotted to Butte, Montana, in compliance with the principle community coverage requirements of Section 73.625(a) at reference coordinates 46-00-27 N. and 112-26-30 W. with a power of 10.7, HAAT of 588 meters and with a DTV service population of 149 thousand. Since the community of Butte is located within 400 kilometers of the U.S.-Canadian border, concurrence from the Canadian government was obtained for this allotment. With this action, this proceeding is terminated.

DATES: Effective October 20, 2003.

FOR FURTHER INFORMATION CONTACT: Pam Blumenthal, Media Bureau, (202) 418-1600.

SUPPLEMENTARY INFORMATION: This is a synopsis of the Commission's Report and Order, MB Docket No. 03-118, adopted August 28, 2003, and released September 4, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Montana, is amended by removing DTV channel 15 and adding DTV channel 5 at Butte.

Federal Communications Commission.
Barbara A. Kreisman,
Chief, Video Division, Media Bureau.

[FR Doc. 03-22909 Filed 9-8-03; 8:45 am]

BILLING CODE 6712-01-P